ENVIRONMENTAL PROTECTION AGENCY

40 CFR Part 52

[R09-OAR-2005-NV-01; FRL-7967-9]

Revisions to the Nevada State Implementation Plan

AGENCY: Environmental Protection Agency (EPA).

ACTION: Proposed rule.

SUMMARY: EPA is proposing to approve revisions to the Nevada State Implementation Plan (SIP). These revisions concern definitions, sulfur emission regulations, and various other burning regulations. We are proposing to approve these regulations in order to regulate their corresponding emission sources under the Clean Air Act as amended in 1990 (CAA or the Act). We are taking comments on this proposal and plan to follow with a final action.

DATES: Any comments must arrive by October 13, 2005.

ADDRESSES: Submit comments, identified by docket number R09-OAR-2005-NV-01, by one of the following methods:

1. Agency Web site: http://docket.epa.gov/rmepub/. EPA prefers receiving comments through this electronic public docket and comment system. Follow the on-line instructions to submit comments.

2. Federal eRulemaking Portal: http://www.regulations.gov. Follow the on-line instructions.

3. E-mail: steckel.andrew@epa.gov.

4. Mail or deliver: Andrew Steckel (Air-4), U.S. Environmental Protection Agency Region IX, 75 Hawthorne Street, San Francisco, CA 94105-3901.

Instructions: All comments will be included in the public docket without change and may be made available online at http://docket.epa.gov/rmepub/, including any personal information provided, unless the comment includes Confidential Business Information (CBI) or other information whose disclosure is restricted by statute. Information that you consider CBI or otherwise protected should be clearly identified as such and should not be submitted through the agency Web site, eRulemaking portal or e-mail. The agency Web site and eRulemaking portal are “anonymous access” systems, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this action is available electronically at http://docket.epa.gov/rmepub and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Julie Rose, EPA Region IX, (415) 947-4126, rose.julie@epa.gov.

SUPPLEMENTARY INFORMATION: Throughout this document, “we,” “us” and “our” refer to EPA.

Table of Contents

I. The State's Submittal

A. What Regulations Did the State Submit?

B. What Is the Regulatory History of the Nevada SIP?

C. What Is the Purpose of This Proposed Rule?

II. EPA's Evaluation and Action

A. How Is EPA Evaluating the Regulations?

B. Do the Regulations Meet the Evaluation Criteria?

C. Public Comment and Final Action.

I. The State's Submittal

A. What Regulations Did the State Submit?

The NDEP submitted a large revision to the applicable SIP on February 16, 2005. On August 18, 2005, the revision became complete by operation of law pursuant to 40 CFR part 51 Appendix V.

The primary purpose of this revision is to clarify and harmonize State and federally enforceable requirements. Because this revision incorporates so many changes from the 1970s and 1980s vintage SIP regulations, EPA has decided to review and act on the submittal in a series of separate actions. This Proposed rule is proposing to approve a few of the provisions contained in the February 2005 submittal. The remaining portions of the submittal will be acted on in future Federal Register actions.

Table 1 lists the provisions of the Nevada Administrative Code (NAC) addressed by this proposal with the dates that they were adopted and submitted by the Nevada Department of Conservation and Natural Resources, Division of Environmental Protection (NDEP). Some of these provisions were renumbered after their initial adoption.

Table 1.—Submitted Regulations
NAC No. | NAC title | Adopted | Submitted
445B.001 | Definitions | 08/19/04 | 02/16/05
445B.002 | Act | 09/16/76 | 02/16/05
445B.004 | Administrator | 08/19/82 | 02/16/05
445B.005 | Affected Facility | 10/03/95 | 02/16/05
445B.006 | Affected Source | 09/18/01 | 02/16/05
445B.009 | Air-conditioning equipment | 09/16/76 | 02/16/05
445B.011 | Air pollution | 01/22/98 | 02/16/05
445B.018 | Ambient air | 09/03/87 | 02/16/05
445B.022 | Atmosphere | 09/16/76 | 02/16/05
445B.030 | British thermal units | 09/03/87 | 02/16/05
445B.042 | Combustible refuse | 09/16/76 | 02/16/05
445B.0425 | Commission | 01/22/98 | 02/16/05
445B.047 | Continuous monitoring system | 09/16/76 | 02/16/05
445B.051 | Day | 09/03/87 | 02/16/05
445B.053 | Director | 09/16/76 | 02/16/05
445B.055 | Effective date of the program | 11/03/93 | 02/16/05
445B.056 | Emergency | 11/03/93 | 02/16/05
445B.058 | Emission | 01/22/98 | 02/16/05
445B.059 | Emission unit | 10/03/95 | 02/16/05
445B.060 | Enforceable | 08/19/82 | 02/16/05
445B.061 | EPA | 11/03/93 | 02/16/05
445B.063 | Excess emissions | 11/03/93 | 02/16/05
445B.072 | Fuel | 09/03/87 | 02/16/05
445B.073 | Fuel-burning equipment | 08/29/90 | 02/16/05
445B.075 | Fugitive dust | 03/03/94 | 02/16/05
445B.077 | Fugitive emissions | 10/03/95 | 02/16/05
445B.080 | Garbage | 09/16/76 | 02/16/05
445B.084 | Hazardous air pollutant | 11/03/93 | 02/16/05
445B.086 | Incinerator | 09/16/76 | 02/16/05
445B.091 | Local air pollution control agency | 09/16/76 | 02/16/05
445B.095 | Malfunction | 09/16/76 | 02/16/05
445B.097 | Maximum allowable throughput | 09/03/87 | 02/16/05
445B.103 | Monitoring device | 10/03/94 | 02/16/05
445B.106 | Multiple chamber incinerator | 09/16/76 | 02/16/05
445B.109 | Nitrogen oxides | 03/03/94 | 02/16/05
445B.112 | Nonattainment area | 10/03/95 | 02/16/05
445B.113 | Nonroad engine | 05/10/01 | 02/16/05
445B.1135 | Nonroad vehicle | 05/10/01 | 02/16/05
445B.116 | Odor | 10/03/95 | 02/16/05
445B.119 | One-hour period | 09/03/87 | 02/16/05
445B.121 | Opacity | 09/16/76 | 02/16/05
445B.122 | Open burning | 09/16/76 | 02/16/05
445B.125 | Ore | 08/12/78 | 02/16/05
445B.127 | Owner or operator | 09/16/76 | 02/16/05
445B.129 | Particulate matter | 09/16/76 | 02/16/05
445B.130 | Pathological wastes | 10/03/95 | 02/16/05
445B.134 | Person | 09/16/76 | 02/16/05
445B.135 | PM10 | 11/18/91 | 02/16/05
445B.144 | Process equipment | 09/16/76 | 02/16/05
445B.145 | Process weight | 10/03/95 | 02/16/05
445B.151 | Reference conditions | 09/03/87 | 02/16/05
445B.152 | Reference method | 10/03/95 | 02/16/05
445B.153 | Regulated air pollutant | 10/03/95 | 02/16/05
445B.161 | Run | 09/16/76 | 02/16/05
445B.163 | Salvage operation | 09/16/76 | 02/16/05
445B.167 | Shutdown | 09/16/76 | 02/16/05
445B.168 | Single chamber incinerator | 11/08/77 | 02/16/05
445B.174 | Smoke | 09/16/76 | 02/16/05
445B.176 | Solid waste | 09/16/76 | 02/16/05
445B.177 | Source | 10/03/95 | 02/16/05
445B.180 | Stack and chimney | 10/03/95 | 02/16/05
445B.182 | Standard | 03/03/94 | 02/16/05
445B.185 | Start-up | 09/16/76 | 02/16/05
445B.196 | Toxic regulated air pollutant | 10/03/95 | 02/16/05
445B.198 | Uncombined water | 09/16/76 | 02/16/05
445B.205 | Waste | 09/16/76 | 02/16/05
445B.207 | Wet garbage | 09/16/76 | 02/16/05
445B.209 | Year | 09/03/87 | 02/16/05
445B.211 | Abbreviations | 08/19/04 | 02/16/05
445B.2204 | Sulfur emission | 09/16/76 | 02/16/05
445B.22043 | Sulfur emissions: Calculation of total feed sulfur | 08/19/04 | 02/16/05
445B.22047 | Sulfur emissions: Fuel-burning equipment | 09/09/99 | 02/16/05
445B.2205 | Sulfur emissions: Other processes which emit sulfur | 09/18/03 | 02/16/05
445B.22067 | Open burning | 02/26/04 | 02/16/05
445B.2207 | Incinerator burning | 02/26/04 | 02/16/05
445B.2209 | Reduction of animal matter | 09/16/76 | 02/16/05
445B.22097 | Standards of quality for ambient air | 02/26/04 | 02/16/05
445B.230 | Plan for reduction of emissions | 08/19/04 | 02/16/05

B. What Is the Regulatory History of the Nevada SIP?

The State of Nevada first submitted an applicable SIP in January 1972, portions of which EPA approved pursuant to CAA § 110(c) on May 31, 1972 at 37 FR 10842. The SIP included various sections of the NAC and the Nevada Revised Statutes. Nevada subsequently adopted and submitted many revisions to these requirements, some of which EPA approved on January 9, 1978 at 43 FR 1342, July 10, 1980 at 45 FR 46284, August 27, 1981 at 46 FR 43142, and June 18, 1982 at 47 FR 26387. Since 1982, EPA has approved very few revisions to Nevada's applicable SIP despite numerous changes that have been adopted locally.

C. What Is the Purpose of This Proposed Rule?

The purpose of this proposal is to bring the applicable SIP up to date. The regulations we are proposing to approve today address a few of the provisions contained in the February 2005 submittal concerning definitions, sulfur emission controls, and various burning regulations.

II. EPA's Evaluation and Action

A. How Is EPA Evaluating the Regulations?

Generally, SIP regulations in attainment areas must be enforceable (see section 110(a) of the Act) and must not relax existing requirements (see sections 110(l) and 193). Guidance and policy documents that we used to help evaluate enforceability include the following:

1. “Issues Relating to VOC Regulation Cutpoints, Deficiencies, and Deviations,” EPA, May 25, 1988 (the Bluebook).

2. “Guidance Document for Correcting Common VOC & Other Rule Deficiencies,” EPA Region 9, August 21, 2001 (the Little Bluebook).

B. Do the Regulations Meet the Evaluation Criteria?

We believe these regulations are consistent with the relevant policy and guidance regarding enforceability and SIP relaxations. The TSD has more information on our evaluation.

C. Public Comment and Final Action.

Because EPA believes the submitted regulations fulfill all relevant requirements, we are proposing to fully approve them as described in section 110(k)(3) of the Act. We will accept comments from the public on this proposal for the next 30 days. Unless we receive convincing new information during the comment period, we intend to publish a final approval action that will incorporate these regulations into the federally enforceable SIP.

III. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Pub. L. 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act. This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This proposed rule does not impose an information collection burden under the provisions of the Paperwork Reduction Act of 1995 (44 U.S.C. 3501 et seq.).

List of Subjects in 40 CFR Part 52

Environmental protection, Air pollution control, Intergovernmental relations, Reporting and recordkeeping requirements, Sulfur oxide.

Authority: 42 U.S.C. 7401 et seq.

Dated: August 31, 2005.
Laura Yoshii,
Acting Regional Administrator, Region IX.

[FR Doc. 05-18092 Filed 9-12-05; 8:45 am]

BILLING CODE 6560-50-P